DEPARTMENT OF HEALTH AND HUMAN SERVICES

National Institutes of Health,

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; Small Business: Health Services and Systems B.

Date: July 17-18, 2025.

Time: 9:00 a.m. to 6:00 p.m.

Agenda: To review and evaluate grant applications.

Address: National Institutes of Health, Rockledge II, 6701 Rockledge Drive, Bethesda, MD 20892.

Meeting Format: Virtual Meeting.

Contact Person: Preethy Nayar, Ph.D., Section Chief, Scientific Review Branch, National Institute on Drug Abuse, NIH, 301 North Stonestreet Avenue, 3WFN, MSC 6021, Bethesda, MD 20892, (301) 594-3087, preethy.nayar@nih.gov.

Name of Committee: Center for Scientific Review Special Emphasis Panel; Mentored Career Development Award Applications.

Date: July 17, 2025.

Time: 10:00 a.m. to 6:00 p.m.

Agenda: To review and evaluate grant applications.

Address: National Institutes of Health, Rockledge II, 6701 Rockledge Drive, Bethesda, MD 20892.

Meeting Format: Virtual Meeting.

Contact Person: Srihari Seshadri, Ph.D., Scientific Review Officer, Scientific Review Program, DEA/NIAID/NIH/DHHS, 5601 Fishers Lane, MSC-9823, Rockville, MD 20852, (240) 236-9279, srihari.seshadri@nih.gov.

Name of Committee: Center for Scientific Review Special Emphasis Panel; Small Business: Social and Community Influences on Substance and Alcohol Use.

Date: July 18, 2025.

Time: 1:30 p.m. to 5:00 p.m.

Agenda: To review and evaluate grant applications.

Address: National Institutes of Health, Rockledge II, 6701 Rockledge Drive, Bethesda, MD 20892.

Meeting Format: Virtual Meeting.

Contact Person: Keary A. Cope, Ph.D., MPH, Scientific Review Officer, Office of Scientific Review/DERA, National Heart, Lung, and Blood Institute, 6705 Rockledge Drive, Room 209-A, Bethesda, MD 20892-7924, 301-827-7912, copeka@mail.nih.gov.

Name of Committee: Center for Scientific Review Special Emphasis Panel; Fellowships: HIV/AIDS Behavioral.

Date: July 21, 2025,

Time: 9:00 a.m. to 2:30 p.m.

Agenda: To review and evaluate grant applications,

Address: National Institutes of Health, Rockledge II, 6701 Rockledge Drive, Bethesda, MD 20892.

Meeting Format: Virtual Meeting.

Contact Person: Xinli Nan, MD, Ph.D., Scientific Review Officer, National Institute on Minority Health and Health Disparities, National Institutes of Health, Scientific Review Branch, OERA, 6707 Democracy Boulevard, Suite 800, Bethesda, MD 20892, (301) 594-7784, Xinli.Nan@nih.gov.

Name of Committee: Center for Scientific Review Special Emphasis Panel; Member Conflict: Cardiac, Hematopoietic, Vascular Biology and Diseases.

Date: July 21, 2025,

Time: 9:00 a.m. to 6:00 p.m.

Agenda: To review and evaluate grant applications,

Address: National Institutes of Health, Rockledge II, 6701 Rockledge Drive, Bethesda, MD 20892.

Meeting Format: Virtual Meeting.

Contact Person: Devaiah Nanjappa Ballachanda, Ph.D., Scientific Review Officer, Center for Scientific Review, National Institutes of Health, 6701 Rockledge Drive, Room 801F, Bethesda, MD 20892, (301) 480-0576, ballachandad@mail.nih.gov.

Name of Committee: Center for Scientific Review Special Emphasis Panel; Fellowships: Learning, Memory, Language, Communication and Related Neuroscience.

Date: July 21-22, 2025.

Time: 9:30 a.m. to 7:00 p.m.

Agenda: To review and evaluate grant applications.

Address: National Institutes of Health, Rockledge II, 6701 Rockledge Drive, Bethesda, MD 20892.

Meeting Format: Virtual Meeting.

Contact Person: Kausik Ray, Ph.D. Scientific Review Officer, National Institute on Deafness and Other Communication Disorders, National Institutes of Health, 6001 Executive Blvd., Rockville, MD 20852, (301) 402-3587, rayk@mail.nih.gov.

Name of Committee: Center for Scientific Review Special Emphasis Panel; PAR Panel: CTSA Collaboration, Innovation and Small Grant Programs.

Date: July 21, 2025

Time: 10:00 a.m. to 6:00 p.m.

Agenda: To review and evaluate grant applications

Address: National Institutes of Health, Rockledge II, 6701 Rockledge Drive, Bethesda, MD 20892.

Meeting Format: Virtual Meeting.

Contact Person: Birgit Neuhuber, Ph.D., Scientific Review Officer, Scientific Review Branch, National Institute on Aging, Gateway Building, Suite 2W-200, 7201 Wisconsin Avenue, Bethesda, MD 20892, 301-827-6548, birgit.neuhuber@nih.gov.

Name of Committee: Center for Scientific Review Special Emphasis Panel; Special topics in Health Promotion and Community Influences on Behavior.

Date: July 21, 2025.

Time: 10:45 a.m. to 1:30 p.m.

Agenda: To review and evaluate grant applications.

Address: National Institutes of Health, Rockledge II, 6701 Rockledge Drive, Bethesda, MD 20892.

Meeting Format: Virtual Meeting.

Contact Person: Kimberly L. Houston, MD, Scientific Review Officer, Scientific Review Branch, Eunice Kennedy Shriver National Institute of Child Health and Human Development, NIH, 6710B Rockledge Drive, Room 2137C, Bethesda, MD 20892, (301) 827-4902, Kimberly.Houston@nih.gov.

Name of Committee: Center for Scientific Review Special Emphasis Panel; PAR 25-242: Mobile Health: Technology and Outcomes in Low- and Middle-Income Countries.

Date: July 21, 2025.

Time: 1:30 p.m. to 5:00 p.m.

Agenda: To review and evaluate grant applications

Address: National Institutes of Health, Rockledge II, 6701 Rockledge Drive, Bethesda, MD 20892.

Meeting Format: Virtual Meeting.

Contact Person: Kimberly L. Houston, MD, Scientific Review Officer, Scientific Review Branch, Eunice Kennedy Shriver National Institute of Child Health and Human Development, NIH, 6710B Rockledge Drive, Room 2137C, Bethesda, MD 20892, (301) 827-4902, Kimberly.Houston@nih.gov.

Name of Committee: Center for Scientific Review Special Emphasis Panel; PAR Panel: HIV/AIDS Health Interventions, Prevention, Clinical Care, and Treatment.

Date: July 21, 2025.

Time: 2:30 p.m. to 6:00 p.m.

Agenda: To review and evaluate grant applications.

Address: National Institutes of Health, Rockledge II, 6701 Rockledge Drive, Bethesda, MD 20892.

Meeting Format: Virtual Meeting.

Contact Person: Xinli Nan, MD, Ph.D., Scientific Review Officer, National Institute on Minority Health and Health Disparities, National Institutes of Health, Scientific Review Branch, OERA, 6707 Democracy Boulevard, Suite 800, Bethesda, MD 20892, (301) 594-7784, Xinli.Nan@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 23, 2025.
Sterlyn H. Gibson,
Program Specialist, Office of Federal Advisory Committee Policy.

[FR Doc. 2025-11722 Filed 6-24-25; 8:45 am]

BILLING CODE 4140-01-P